NATIONAL AERONAUTICS AND SPACE ADMINISTRATION

[Notice (03-102)]

Performance Review Board, Senior Executive Service (SES)

AGENCY: National Aeronautics and Space Administration (NASA).

ACTION: Notice of Membership of SES Performance Review Board.

SUMMARY: The Civil Service Reform Act of 1978, Public Law 95-454 (Section 405) requires that appointments of individual members to a Performance Review Board be published in the Federal Register.

The performance review function for the SES in the National Aeronautics and Space Administration is being performed by the NASA Performance Review Board (PRB) and the NASA Senior Executive Committee. The latter performs this function for senior executives who report directly to the Administrator or the Deputy Administrator and members of the PRB. The following individuals are serving on the Board and the Committee:

Performance Review Board

Chairperson, Associate Administrator for Earth Science, NASA Headquarters

Executive Secretary, Senior Executive Advisor, Office of Human Resources, NASA Headquarters

Director, Personnel Division, NASA Headquarters

Deputy General Counsel, NASA Headquarters

Deputy Assistant Administrator for Equal Opportunity Programs, NASA Headquarters

Deputy Associate Administrator for Space Science, NASA Headquarters

Deputy Associate Administrator for Earth Science, NASA Headquarters

Deputy Associate Administrator for Space Flight, NASA Headquarters

Deputy Associate Administrator for Education, NASA Headquarters

Deputy Associate Administrator for Safety and Mission Assurance, NASA Headquarters

Director, Research Support Division, Office of Aerospace Technology, NASA Headquarters

Deputy Associate Administrator (Science) for Biological and Physical Research, NASA Headquarters

Associate Director (Management), NASA Johnson Space Center

Deputy Center Director, NASA Glenn Research Center

Deputy Center Director, NASA Ames Research Center

Deputy Center Director, NASA Kennedy Space Center

Senior Executive Committee

Chairperson, Associate Deputy Administrator for Institutions and Asset Management, NASA Headquarters

Executive Secretary, Director, Personnel Division, NASA Headquarters

Associate Administrator for Biological and Physical Research, NASA Headquarters

Associate Administrator for Earth Science, NASA Headquarters

Assistant Administrator for Human Resources, NASA Headquarters

Sean O'Keefe,
Administrator.

[FR Doc. 03-22939 Filed 9-8-03; 8:45 am]

BILLING CODE 7510-01-U